ENVIRONMENTAL PROTECTION AGENCY

[ER-FRL-9016-8]

Environmental Impact Statements; Notice of Availability

Responsible Agency: Office of Federal Activities, General Information (202) 564-7146 or http://www.epa.gov/compliance/nepa/.

Weekly Receipt of Environmental Impact Statements

Filed 08/25/2014 through 08/29/2014

Pursuant to 40 CFR 1506.9.

Notice

Section 309(a) of the Clean Air Act requires that EPA make public its comments on EISs issued by other Federal agencies. EPA's comment letters on EISs are available at: http://www.epa.gov/compliance/nepa/eisdata.html.

EIS No. 20140244, Final EIS, BIA, MA, Mashpee Wampanoag Tribe Fee to Trust Acquisition and Casino Project, Review Period Ends: 10/06/2014, Contact: Chester McGhee 615-564-6500.

EIS No. 20140245, Draft EIS, BOEM, 00, Gulf of Mexico OCS Oil and Gas Lease Sales: 2015 and 2016; Western Planning Area Lease Sales 246 and 248, Comment Period Ends: 10/20/2014, Contact: Gary D. Goeke 504-736-3233.

EIS No. 20140246, Draft EIS, USFS, CA, Master Special Use Permit and Permit to Construct Power Line Replacement Projects, Comment Period Ends: 11/04/2014, Contact: Robert Hawkins 916-849-8037.

EIS No. 20140247, Draft EIS, USFWS, CO, San Luis Valley National Wildlife Refuge Complex, Comment Period Ends: 10/27/2014, Contact: Laurie Shannon 303-236-4317.

EIS No. 20140248, Final EIS, FTA, CA, Downtown San Francisco Ferry Terminal Expansion Project, Contact: Alex Smith 415-744-2599. Under MAP-21 section 1319, FTA has issued a single FEIS and ROD. Therefore, the 30-day wait/review period under NEPA does not apply to this action.

EIS No. 20140249, Final EIS, USFS, CA, Rim Fire Recovery, Contact: Maria Benech 209-532-3671. The issuance of this Final EIS reflects the President's Council on Environmental Quality (CEQ) alternative arrangements granted in accordance with 40 CFR 1506.11 on December 9, 2013. CEQ specifically eliminated the 30-day waiting period between the publication of the FEIS and the Record of Decision.

EIS No. 20140250, Final EIS, HHS, GA, Centers for Disease Control and Prevention Roybal Campus 2025 Master Plan EIS, Review Period Ends: 10/06/2014, Contact: George Chandler 404-639-5153.

EIS No. 20140251, Final EIS, NMFS, 00, Amendment 7 to the 2006 Consolidated Atlantic Highly Migratory Species Fishery Management Plan, Review Period Ends: 10/06/2014, Contact: Margo Schulze-Haugen 301-427-8534.

EIS No. 20140252, Final EIS, USFS, MS, Revised Land and Resource Management Plan for the National Forests in Mississippi, Review Period Ends: 12/04/2014, Contact: Shaun Williamson 601-965-1659.

EIS No. 20140253, Draft EIS, NMFS, 00, Recreational Red Snapper Sector Separation, Amendment 40 to the Fishery Management Plan for the Reef Fish Resources of the Gulf of Mexico, Comment Period Ends: 10/20/2014, Contact: Roy E. Crabtree 727-824-5301.

EIS No. 20140254, Draft EIS, NMFS, USFW, WA, To Analyze Impacts of Issuance by the National Marine Fisheries Service and the U.S. Fish and Wildlife Service of Two Incidental Take Permits under Section 10 of the Endangered Species Act for Implementation of the Washington Department of National Resources Aquatic Lands Habitat Conservation Plan, Comment Period Ends: 12/04/2014, Contact: Scott Anderson 360-753-5828. The U.S. Department of Commerce's National Marine Fisheries Service and the U.S. Department of the Interior's Fish and Wildlife Service are joint lead agencies for the above project.

Amended Notices

EIS No. 20140215, Final EIS, USACE, FL, Central Everglades Planning Project, Review Period Ends: 10/03/2014, Contact: Dr. Gretchen Ehlinger 904-232-1682. Revision to FR Notice Published 08/08/2014; Extending the Comment Period from 09/08/2014 to 10/03/2014.

EIS No. 20140241, Draft Supplement, FHWA, CO, I-70 East, from I-25 to Tower Road, Comment Period Ends: 10/17/2014, Contact: Chris Horn 720-963-3017. Revision to FR Notice Published 09/03/2014; This project was included in EPA's NOA that was inadvertently omitted from FR Publication 08/29/2014. Therefore, the Comment Period has been recalculated from 10/14/2014 to 10/17/2014.

EIS No. 20140242, Draft EIS, USFS, CO, Pawnee National Grassland Oil and Gas Leasing Analysis, Comment Period Ends: 10/20/2014, Contact: Karen Roth 970-295-6621. Revision to FR Notice Published 09/03/2014; This project was included in EPA's NOA that was inadvertently omitted from FR Publication 08/29/2014. Therefore, the Comment Period has been recalculated from 10/14/2014 to 10/20/2014.

EIS No. 20140243, Draft EIS, USFS, NV, Heavenly Mountain Resort Epic Discovery Project, Comment Period Ends: 10/21/2014, Contact: Matt Dickinson 530-543-2769. Revision to FR Notice Published 09/03/2014; This project was included in EPA's NOA that was inadvertently omitted from FR Notice 08/29/2014. Correction to the Comment Period should be 10/21/2014.

Dated: September 2, 2014.
Dawn Roberts,
Management Analyst, EPA Compliance Division, Office of Federal Activities.

[FR Doc. 2014-21202 Filed 9-4-14; 8:45 am]

BILLING CODE 6560-50-P